COMMISSION ON CIVIL RIGHTS

Agenda and Notice of Public Meeting of the Illinois Advisory Committee

Notice is hereby given, pursuant to the provisions of the rules and regulations of the U.S. Commission on Civil Rights, that the Illinois Advisory Committee to the Commission will convene a meeting 1 p.m. until 5 p.m. on Thursday, February 19, 2004, at the James R. Thompson Center, 100 West Randolph Street, Suite 15-500, Chicago, IL 60601. The purpose of the meeting is to discuss civil rights issues of interest and plan future activities.

Persons desiring additional information, should contact James Scales, Committee Chairperson at 618-453-1045 or Constance M. Davis, Director of the Midwestern Regional Office 312-353-8311, (TDD 312-353-8362). Hearing-impaired persons who will attend the meeting and require the services of a sign language interpreter should contact the Regional Office at least ten (10) working days before the scheduled date of the meeting.

The meeting will be conducted pursuant to the provisions of the rules and regulations of the Commission.

Dated at Washington, DC, February 5, 2004.
Ivy L. Davis,
Chief, Regional Programs Coordination Unit.

[FR Doc. 04-3072 Filed 2-11-04; 8:45 am]

BILLING CODE 6335-01-P